DEPARTMENT OF THE TREASURY

Financial Literacy and Education Commission's Two-Day Summit on Kindergarten Through Postsecondary Financial Education

AGENCY: Departmental Offices, Treasury.

ACTION: Notice of open meeting.

SUMMARY: This notice announces a two-day summit on kindergarten through postsecondary financial education of the Financial Literacy and Education Commission (the “Commission”), established by the Financial Literacy and Education Improvement Act, Title V of the Fair and Accurate Credit Transactions (“FACT”) Act of 2003 (Pub. L. 108-159). This summit is being co-hosted by the Departments of Education and Treasury.

DATES: See SUPPLEMENTARY INFORMATION section for meeting dates.

ADDRESSES: See SUPPLEMENTARY INFORMATION section for meeting addresses.

SUPPLEMENTARY INFORMATION: First Day of the Summit: The first day of the Summit will be held on February 21, 2007 at the Department of Education. The program, which will include several sessions, will begin at 10 a.m. and end at 4 p.m. (EST). There will be an hour and a half lunch break.

ADDRESSES: The first day of the Summit will be held in the Departmental Auditorium FB-6 at the Department of Education, located at 400 Maryland Avenue, SW., Washington, DC. Limited seating is available to the public on a first-come, first-serve basis. Attendees will be required to provide the following information not later than 5 p.m. (EST) on February 13, 2007: Visitor name, visitor's organization, and date and time of visit to FLECrsvp@do.treas.gov. For entry into the building, attendees will be required to provide a valid picture I.D.

Second Day of the Summit: The second day of the Summit will be held on February 22, 2007 at the Department of the Treasury. The program, which will include several sessions, will begin at 9 a.m. and end at 4 p.m. (EST). There will be an hour and half a lunch break.

ADDRESSES: The second day of the Summit will be held in the Cash Room at the Department of Education, located at 1500 Pennsylvania Avenue, NW., Washington, DC. Limited seating is available to the public on a first-come, first-serve basis. Attendees will be required to provide the following information not later than 5 p.m. (EST) on February 13, 2007: Visitor name, visitor's organization, phone number, Social Security number, date of birth and country of citizenship to FLECrsvp@do.treas.gov or (202) 622-1783 (not a toll-free number). For entry into the building, attendees will be required to provide a valid picture I.D.

Background

This two-day summit on kindergarten through postsecondary financial education is part of the implementation of the National Strategy for Financial Literacy issued by the Commission. The FACT Act established the Commission to improve financial literacy and education of persons in the United States. The Commission is composed of the Secretary of the Treasury and the head of the Office of the Comptroller of the Currency; the Office of Thrift Supervision; the Federal Reserve; the Federal Deposit Insurance Corporation; the National Credit Union Administration; the Securities and Exchange Commission; the Departments of Education, Agriculture, Defense, Health and Human Services, Housing and Urban Development, Labor, and Veterans Affairs; the Federal Trade Commission; the General Services Administration; the Small Business Administration; the Social Security Administration; the Commodity Futures Trading Commission; and the Office of Personnel Management.

This financial education summit, co-hosted by the Departments of Education and Treasury, will be held during two days at separate locations each day. For each day of the summit, there will be at least 50 seats reserved for members of the public. Seating is available on a first-come basis.

FOR FURTHER INFORMATION CONTACT: For additional information, contact Luz Figuereo by e-mail at: FLECstrategy@do.treas.gov or by telephone at (202) 622-5770 (not a toll free number). Additional information regarding the Financial Literacy and Education Commission and the Department of the Treasury's Office of Financial Education may be obtained through the Office of Financial Education's Web site at: http://www.treas.gov/financialeducation.

Dated: December 21, 2006.
Dan Iannicola, Jr.,
Deputy Assistant Secretary for Financial Education.

[FR Doc. E6-22614 Filed 1-4-07; 8:45 am]

BILLING CODE 4811-42-P